FEDERAL COMMUNICATIONS COMMISSION

47 CFR Part 73

[DA 06-1293; MB Docket No. 05-86; RM-11165, RM-11297]

Radio Broadcasting Services; Altamont and Odin, IL

AGENCY: Federal Communications Commission.

ACTION: Final rule.

SUMMARY: The Audio Division, at the request of Benjamin L. Stratemeyer, allots Channel 288A at Altamont, Illinois, as the community's first local service. Channel 288A can be allotted to Altamont, Illinois, in compliance with the Commission's minimum distance separation requirements with a site restriction of 6.2 kilometers (3.9 miles) southwest of Altamont. The coordinates for Channel 288A at Altamont, Illinois, are 39-01-44 North Latitude and 88-48-22 West Longitude.

DATES: Effective August 7, 2006.

FOR FURTHER INFORMATION CONTACT: Deborah Dupont, Media Bureau, (202) 418-2180.

SUPPLEMENTARY INFORMATION: This is a synopsis of the Commission's Report and Order, MB Docket No. 05-86, adopted June 21, 2006, and released June 23, 2006. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Illinois, is amended by adding Altamont, Channel 288A.

Federal Communications Commission.
John A. Karousos,
Assistant Chief, Audio Division, Media Bureau.

[FR Doc. E6-10793 Filed 7-11-06; 8:45 am]

BILLING CODE 6712-01-P